DEPARTMENT OF COMMERCE

Submission for OMB Review; Comment Request

The Department of Commerce has submitted to the Office of Management and Budget (OMB) for clearance the following proposal for collection of information under the provisions of the Paperwork Reduction Act (44 U.S.C. Chapter 35).

AGENCY: National Oceanic and Atmospheric Administration (NOAA).

Title: Knowledge, Attitudes, and Perceptions of Management Strategies and Regulations in the Florida Keys National Marine Sanctuary.

Form Number(s): None.

OMB Approval Number: 0648-0534.

Type of Request: Regular submission.

Burden Hours: 5,952.

Number of Respondents: 3,736.

Average Hours Per Response: Full survey, 2 hours; non-respondent postcard survey, 2 minutes.

Needs and Uses: This is a ten-year replication of the Knowledge, Attitudes, and Perceptions of the management strategies and regulations of the Florida Keys National Marine Sanctuary (FKNMS) for three user groups: Commercial fishermen, dive shop owners/operators and members of local environmental groups. The original study was done in 1995-96 and was adopted as providing baselines for the Socioeconomic Research and Monitoring Program for the FKNMS. Much has happened since 1995-96 so the study will also provide new baselines for new management strategies and regulations. The most important management strategies and regulations assessed in both the baseline and replication are those related to the special zones created in the FKNMS, especially the no-take areas. The information is important to support the “adaptive management” process in the FKNMS and to support education and outreach efforts. This application revises methods to increase response rates and proposes a study of nonresponse bias for the survey of members of local environmental groups.

Affected Public: Business or other for-profit organizations; individuals or households.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: April 11, 2006.
Gwellnar Banks,
Management Analyst, Office of the Chief Information Officer.

[FR Doc. E6-5624 Filed 4-14-06; 8:45 am]

BILLING CODE 3510-22-P